DEPARTMENT OF AGRICULTURE

Rural Business-Cooperative Service

Notice of Request for Revision of a Currently Approved Information Collection

AGENCY: Rural Business-Cooperative Service, USDA.

ACTION: Proposed collection; comments requested.

SUMMARY: In accordance with the Paperwork Reduction Act of 1995, this notice announces the Rural Business-Cooperative Service's (RBS) intention to request an extension for a currently approved information collection in support of the Rural Energy for America Program (REAP).

DATES: Comments on this notice must be received by December 5, 2017 to be assured of consideration.

FOR FURTHER INFORMATION CONTACT: Tony Crooks, Rural Business-Cooperative Service, USDA, STOP 3225, 1400 Independence Ave. SW., Washington, DC 20250-3225, Telephone (202) 205-9322.

SUPPLEMENTARY INFORMATION:

Title: Rural Energy for America Program.

OMB Number: 0570-0067.

Expiration Date of Approval: February 28, 2018.

Type of Request: Revision of a currently approved information collection.

Abstract: REAP provides grants and loan guarantees to eligible agricultural producers and rural small businesses for the purchase of renewable energy systems and the implementation of energy efficiency improvements. REAP also provides grants for eligible entities to conduct energy audits and provide and renewable energy development assistance. This notice is specific to the information collection required for REAP.

The collection of information is vital for Rural Development to make informed decisions regarding the eligibility of applicants and borrowers, establish selection priorities among competing applicants ensure compliance with applicable Rural Development regulations, and effectively monitor the grantees and borrowers activities to protect the Government's financial interest and ensure that funds obtained from the Government are used appropriately. This information will be used to determine applicant eligibility, to determine project eligibility and feasibility, and to ensure that grantees/borrowers operate on a sound basis and use funds for authorized purposes.

Estimate of Burden: Public reporting burden for this collection of information is estimated to average 2.6 hours per response.

Respondents: Agricultural Producers and Rural Small Businesses.

Estimated Number of Respondents: 1,997.

Estimated Number of Responses per Respondent: 25.

Estimated Number of Responses: 49,925.

Estimated Total Annual Burden on Respondents: 129,805.

Copies of this information collection can be obtained from Jeanne Jacobs, Regulations and Paperwork Management Branch, Support Services Division at (202) 692-0040.

Comments: Comments are invited on: (a) Whether the proposed collection of information is necessary for the proper performance of the functions of USDA, including whether the information will have practical utility; (b) the accuracy of USDA's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW., Washington, DC 20250-0742. All responses to this notice will be summarized and included in the request for OMB approval. All comments will also become a matter of public record.

Dated: September 28, 2017.
Chad Parker,
Acting Administrator, Rural Business-Cooperative Service.

[FR Doc. 2017-21568 Filed 10-5-17; 8:45 am]

BILLING CODE 3410-XY-P